NATIONAL AERONAUTICS AND SPACE ADMINISTRATION

[Notice (09-108)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: December 11, 2009.

FOR FURTHER INFORMATION CONTACT: Edward K. Fein, Patent Counsel, Johnson Space Center, Mail Code AL, 2101 NASA Parkway, Houston, TX 77058, (281) 483-4871; (281) 483-6936 [Facsimile].

NASA Case No. MSC-24464-1: Methods and Circuitry for Reconfigurable SEU/SET Tolerance;

NASA Case No. MSC-23797-1: Cell-Based Biosensors and Uses Thereof.

Dated: December 4, 2009.
Richard W. Sherman,
Deputy General Counsel.

[FR Doc. E9-29492 Filed 12-10-09; 8:45 am]

BILLING CODE P